DEPARTMENT OF THE INTERIOR

Notice of Availability for the Record of Decision on the Final General Management Plan/Environmental Impact Statement, Minuteman Missile National Historic Site, South Dakota

AGENCY: Department of the Interior, National Park Service.

SUMMARY: Pursuant to Section 102(2)(C) of the National Environmental Policy Act of 1969 (42 U.S.C. 4332(C)), the National Park Service (NPS) announces the availability of the Record of Decision (ROD) for the Final General Management Plan (GMP)/Environmental Impact Statement (EIS), Minuteman Missile National Historic Site, South Dakota. On July 2, the acting regional director for the NPS Midwest Region approved the ROD for the Final GMP/EIS. As soon as practicable, the NPS will begin to implement the selected alternative.

The selected alternative, with the concept of presenting the national historic site as a symbol of the Cold War, will restore Delta One to its ready-alert status and rehabilitate Delta Nine to its stand-down appearance. These facilities will be presented as symbols commemorating the history and significance of the Cold War, the arms race, and the intercontinental ballistic missile in the second half of the 20th century.

The selected alternative includes locating a 7,700-square-foot visitor/administrative facility northwest of exit 131 on Interstate 90, built in two stages. Under the selected alternative, visitors will drive their personal cars to the Delta One facility and, with reservations, go on a ranger-led tour. Visitors will also drive their personal cars to Delta Nine for a self-guided tour. A shuttle system to Delta One will be developed for operation when the level of visitation warrants. The chain link security gate at Delta One will remain locked during business hours except during shuttle tours. The gate at Delta Nine will remain open during business hours.

Visitors benefit from this plan because of a rich range of options to see and learn about the missile sites as symbols that commemorate the Cold War, including guided tours, onsite interpretive media, and interpretive programs at the visitor/administrative facility.

The ROD includes a statement of the decision made, synopses of other alternatives considered, the basis for the decision, a description of the environmentally preferable alternative, a finding on impairment of park resources and values, a listing of measures to minimize environmental harm, and an overview of public involvement in the decision-making process.

FOR FURTHER INFORMATION CONTACT: Superintendent Mark Herberger, Minuteman Missile National Historic Site, 21280 South Dakota Highway 240, Philip, South Dakota 57567, or by calling 605-433-5552. Copies of the ROD are available upon request from the above address or viewed online at http://parkplanning.nps.gov/mimi.

Dated: July 2, 2009.
David N. Given,
Acting Regional Director, Midwest Region.

[FR Doc. E9-18858 Filed 8-5-09; 8:45 am]

BILLING CODE P